DEPARTMENT OF TRANSPORTATION

Federal Aviation Administration

Proposed Order 8110.ICA, Instructions for Continued Airworthiness, Responsibilities, Requirements, and Content.

AGENCY: Federal Aviation Administration (DOT).

ACTION: Notice of availability and request for public comments.

SUMMARY: This notice announces the availability of and requests comments on proposed Order 8110.ICA. This proposed Order provides guidance on the responsibilities, requirements, and contents for Instructions for Continued Airworthiness (ICA) per the requirements of Title 14 of the Code of Federal Regulations (14 CFR) § 21.50. This notice is necessary to give all interested persons an opportunity to present their views on the proposed policy.

DATES: Comments must be received on or before June 21, 2004.

ADDRESSES: Send all comments on the proposed policy to: Michael Reinert, Delegation and Airworthiness Programs Branch, P.O. Box 26460, Oklahoma City, OK 73125. Comments may be faxed to (405) 954-4104 or emailed to: mike.reinert@faa.gov.

FOR FURTHER INFORMATION CONTACT: Michael Reinert, Aircraft Engineering Division, Airworthiness Programs Branch (AIR-140), P.O. Box 26460, Oklahoma City, OK 73125. Telephone: (405) 954-4815, or FAX: (405) 954-4104.

SUPPLEMENTARY INFORMATION:

Comments Invited

You are invited to comment on the proposed Order by submitting such written data, views, or arguments to the address or FAX number listed above. You comments should identify “Order 8110.ICA.” The Associated Administrator for Regulation and Certification will consider all communications received on or before the closing date before issuing the final Order.

Background

This proposed Order explains to the Aircraft/Engine Certification Office (ACO/ECO) and Aircraft Evaluation Group (AEG) personnel their responsibilities and methods on how to review and accept Instructions for Continued Airworthiness (ICA). The contents of this order supplements the regulatory requirements contained in 14 CFR 21.50(b), 23.1529 Appendix G, 25.1529 Appendix H, 27.1529 Appendix A, 29.1529 Appendix A, 31.82 Appendix A, 33.4 Appendix A, and 35.4 Appendix A. The guidance contained in this proposed Order will cancel the following documents in their entirety:

• Order 8110.50, Submitting Instructions for Continued Airworthiness for Type Certificates, Amended Type Certificates and Supplemental Type Certificates, dated October 20, 2003.

• Office of Airworthiness Policy Memorandum, Interpretation of FAR 21.50B, dated August 3, 1982.

• Office of Airworthiness Policy Memorandum, Interpretation of FAR 21.50B, dated August 8, 1983.

How To Obtain Copies

You may get a copy of the proposed Order from the Internet at: http://www.airweb.faa.gov/Regulatory_and_Guidance_Library/rgDAC.nsf/MainFrame?OpenFrameSet. You may also request a copy from Michael Reinert. See the section entitled FOR FURTHER INFORMATION CONTACT for the complete address.

Issued in Washington, DC on May 17, 2004.
Susan J.M. Cabler,
Acting Manager, Aircraft Engineering Division, Aircraft Certification Service.

[FR Doc. 04-11452 Filed 5-19-04; 8:45 am]

BILLING CODE 4910-13-M